DEPARTMENT OF ENERGY

Federal Energy Regulatory Commission

[Docket Nos. EL05-29-000 and ER04-1209-001]

Southern California Edison Company; Notice of Initiation of Proceeding and Refund Effective Date

December 13, 2004.

On December 10, 2004, the Commission issued an order in the above-referenced dockets initiating a proceeding in Docket No. EL05-29-000 under section 206 of the Federal Power Act concerning issues related to allocation of costs. 109 FERC ¶ 61,263.

The refund effective date in Docket No. EL05-29-000, established pursuant to section 206(b) of the Federal Power Act will be 60 days following publication of this notice is the Federal Register.

Magalie R. Salas,
Secretary.

[FR Doc. E5-36 Filed 1-7-05; 8:45 am]

BILLING CODE 6717-01-P